DEPARTMENT OF TRANSPORTATION

Office of the Secretary

49 CFR Subtitle A

[Docket No. OST-2005-20434]

Negotiated Rulemaking Advisory Commiteee on Minimum Standards for Driver's Licenses and Personal Identification Cards

AGENCY: Office of the Secretary (OST), DOT.

ACTION: Notice of meetings of advisory committee.

SUMMARY: This document sets forth the schedule for the meetings of the Negotiated Rulemaking Advisory Committee on Minimum Standards for Driver's Licenses and Personal Identification Cards. Pursuant to section 7212 of the Intelligence Reform and Terrorism Prevention Act of 2004, the Office of the Secretary, DOT, is establishing a committee to develop, through negotiated rulemaking procedures, recommendations for minimum standards to tighten the security for driver's licenses and personal identification cards issued by States, in order for these documents to be accepted for use by Federal agencies for any official purpose, including identification, a given time after the final rule goes into effect. The committee will consist of persons who represent the interests affected by the proposed rule, i.e., State offices that issue driver's licenses or personal identification cards, elected State officials, the Departments of Transportation and Homeland Security, and other interested parties.

DATES: Meetings of the committee will take place on the dates listed below under SUPPLEMENTARY INFORMATION. All meetings are open to the public.

ADDRESSES: The committee's meetings will take place at the locations listed below under SUPPLEMENTARY INFORMATION.

FOR FURTHER INFORMATION CONTACT: Robert C. Ashby, Deputy Assistant General Counsel for Regulation and Enforcement, Office of the General Counsel, at (202) 366-9310 (bob.ashby@dot.gov), or Steve Wood, Assistant Chief Counsel for Vehicle Safety Standards and Harmonization, Office of the Chief Counsel, National Highway Traffic Safety Administration, (202) 366-2992 (steve.wood@nhtsa.dot,gov). Their mailing addresses are at the Department of Transportation, 400 7th Street, SW, Washington DC, 20590, rooms 10424 and 5219, respectively.

SUPPLEMENTARY INFORMATION: On December 17, 2004, the President signed into law the Intelligence Reform and Terrorism Prevention Act of 2004. (Public Law 108-458). Title VII of that Act is known as the 9/11 Commission Implementation Act of 2004 (the 9/11 Act). Subtitle B of the 9/11 Act addresses terrorist travel and effective screening. Among other things, Subtitle B, section 7212, mandates the issuance of minimum standards for State-issued driver's licenses and personal identification cards (Section 7212) that will be accepted by Federal agencies for official purposes.

Section 7212 directs the Department of Transportation to issue rules with the assistance of a negotiated rulemaking advisory committee, composed of representatives of the Departments of Transportation and Homeland Security, State agencies that issue driver's licenses, State elected officials, and other interested parties.

To carry out this requirement, the Department recently published a notice of intent to form this advisory committee, consistent with the standards of the Federal Advisory Committee Act (FACA) and Negotiated Rulemaking Act (NRA). See 70 FR 8756, February 23, 2005. The comment period for this notice extends through March 25, 2005. During the comment period, the Department will file a charter for the committee with the General Services Administration, and the convener will begin contacting potential participants. After evaluating comments received as a result of the February 23 notice, the Department will issue a notice announcing the establishment and composition of the committee.

The statutory timetable for this rulemaking is short. Section 7212 of the Intelligence Reform and Terrorism Act specifies that the recommendations of the negotiated rulemaking committee must be submitted to the Secretary of Transportation no later than 9 months after the date of enactment, i.e., by September 17, 2005. Section 7212 further specifies that the Secretary must issue a final rule establishing the minimum standards no later than 18 months after the date of enactment, i.e., by June 17, 2006. To meet these deadlines, the Department must begin, in the very near future, a very compressed schedule of regulatory negotiation meetings. The Department has scheduled five meetings on the following dates:

Meeting 1: April 19-21, 2005.

Meeting 2: May 10-13, 2005.

Meeting 3: May 31, June 1-3, 2005.

Meeting 4: June 21-24, 2005.

Meeting 5: July 12-15, 2005.

The meetings will take place in the Department of Transportation headquarters building, 400 7th Street, SW., Washington, DC 20590, in Room 2230. Meetings are scheduled to begin at 9 a.m. and conclude at 5:30 p.m.

The meetings of the committee are open to the public (unless portions of the meeting are held in closed session, as provided under FACA). Attendance will necessarily be limited by the size of the meeting room. Members of the public wishing to attend meetings held in Department of Transportation buildings or other Federal facilities will have to enter through designated security checkpoints.

The visitor entry point for the Department of Transportation headquarters building is in the southwest corner entrance to the building (i.e., the entrance nearest the corner of 7th and E Streets, SW.). Visitors must be escorted into and out of the building. Because it can take some time for large numbers of visitors to process through security, we request that visitors arrive between 8:30 and 8:45 a.m. to undergo the screening process. DOT personnel will then escort groups of visitors to the meeting room. This group escort process will also be followed for persons entering following the lunch break and for persons leaving the building for lunch and at the end of each day's meeting.

As a general matter, the committee will make one hour available for public comments on the Wednesdays of each meeting from 2-3 p.m. Individuals wishing to address the committee should sign up on the public comment sign-in sheet before lunch and the time available will be reasonably divided among those who have signed up, but no one will have more than 15 minutes even if less than 4 people have signed up. Written comments and reports can be given to the facilitator for distribution to the committee members. Persons wanting to present written materials to the committee should make enough copies for all committee members.

The agenda topics for the meetings will include, but not necessarily be limited to, discussion of the following issues:

1. Documentation required as proof of identity of an applicant for a driver's license or personal identification card, including the scope of personal identification cards covered by the requirement.

2. Verifiability of documents used to obtain a driver's license or personal identification card.

3. Processing of applications for driver's licenses and personal identification cards to prevent fraud.

4. Information to be included on each driver's license or personal identification card.

5. Common machine-readable identity information to be included on each driver's license or personal identification card, including defined minimum data elements.

6. Security standards to ensure that driver's licenses and personal identification cards are—(i) resistant to tampering, alteration, or counterfeiting; and (ii) capable of accommodating and ensuring the security of a digital photograph or other unique identifier.

7. Requirement that a State confiscate a driver's license or personal identification card if any component or security feature of the license or identification card is compromised.

8. Requirement that rules facilitate communication between the chief driver licensing official of a State, an appropriate official of a Federal agency and other relevant officials, to verify the authenticity of documents, as appropriate, issued by such Federal agency or entity and presented to prove the identity of an individual.

9. Ensuring that standards do not infringe on a State's power to set criteria concerning what categories of individuals are eligible to obtain a driver's license or personal identification card from that State.

10. Prohibition on requiring a State to comply with any such regulation that conflicts with or otherwise interferes with the full enforcement of State criteria concerning the categories of individuals that are eligible to obtain a driver's license or personal identification card from that State.

11. Prohibition on requiring a single design to which driver's licenses or personal identification cards issued by all States must conform.

12. Procedures and requirements to protect the privacy rights of individuals who apply for and hold driver's licenses and personal identification cards.

13. Assessment of the benefits and costs of the recommendations.

The committee may alter this schedule, including the agenda items. The agenda topics presented in this notice are necessarily very general since the direction and nature of the advisory committee discussions will shape each subsequent meeting. The Department may issue additional notices, as needed, with respect to changes in the schedule or agenda topics.

Issued this 22nd day of March, 2005, at Washington, DC.
Jeffrey A. Rosen,
General Counsel.

[FR Doc. 05-6167 Filed 3-24-05; 2:43 pm]

BILLING CODE 4910-62-P